DEPARTMENT OF TRANSPORTATION

Surface Transportation Board

[Docket No. FD 35895]

BNSF Railway Company—Lease Exemption—Union Pacific Railroad Company

[Docket No. FD 35896]

Union Pacific Railroad Company—Lease Exemption—BNSF Railway Company

AGENCY: Surface Transportation Board, DOT.

ACTION: Notice of exemption.

SUMMARY: The Board grants separate exemptions under 49 U.S.C. 10502 from the prior approval requirements of 49 U.S.C. 11323-25 for BNSF to lease from UP approximately 54.12 miles of main line track for both track and signal maintenance and 7.80 miles of right of way for signal maintenance; and for UP to lease from BNSF approximately 14.85 miles of main line track for track and signal maintenance and 1.77 miles of right of way for track maintenance only. The proposed lease transactions involve lines located between South Denver and Bragdon, Colo. (the Joint Corridor) and between Prospect Junction and South Denver, Colo. (the Consolidated Corridor). The exemptions are subject to employee protective conditions.

DATES: The exemptions will be effective on April 30, 2015. Petitions to stay, petitions for reconsideration, and petitions to reopen are due by April 27, 2015.

ADDRESSES: An original and 10 copies of all pleadings, referring to Docket No. FD 35895 or Docket No. FD 35896, must be filed with the Surface Transportation Board, 395 E Street SW., Washington, DC 20423-0001. In addition, a copy of each pleading must be served on Karl Morell, Karl Morell & Associates, 655 Fifteenth Street, Suite 225, Washington, DC 20005.

FOR FURTHER INFORMATION CONTACT: Valerie Quinn at (202) 245-0382. Assistance for the hearing impaired is available through the Federal Information Relay Service (FIRS) at (800) 877-8339.

SUPPLEMENTARY INFORMATION: Under the proposed transaction, BNSF would grant UP a non-exclusive lease for the following segments of BNSF-owned trackage: (i) On the Joint Corridor, main track 2, BNSF milepost 12.41, at or near Littleton, to BNSF milepost 25.21, at or near Sedalia; (ii) on the Joint Corridor, main track 2, BNSF milepost 49.79, at or near Spruce, to BNSF milepost 51.84, at or near Palmer Lake; and (iii) on the Joint Corridor, main track 2, BNSF milepost 84.36, at or near Crews, to BNSF milepost 86.13, south of Crews, excluding the signal system and grade crossing warning devices. UP would grant BNSF a non-exclusive lease for the following segments of UP-owned trackage: (i) On the Consolidated Corridor in Denver, main track 1, BNSF milepost 0.0 to BNSF milepost 0.85; (ii) on the Joint Corridor, main track 1, BNSF milepost 3.92, at or near South Denver, to BNSF milepost 25.21, at or near Sedalia (excluding Dupont Spur at approximately UP milepost 20.6, Fort Logan Spur at approximately UP milepost 9.1, and Iowa Spur No. 3 at approximately UP milepost 5.3); (iii) on the Joint Corridor, main track 1, BNSF milepost 48.97, at or near Spruce, to BNSF milepost 51.99, at or near Palmer Lake; (iv) on the Joint Corridor, main track 1, BNSF milepost 51.84 to BNSF milepost 51.99, at or near Palmer Lake; (v) on the Joint Corridor, the single track, BNSF milepost 51.99, at or near Palmer Lake, to BNSF milepost 78.75, at or near Kelker (excluding UP's yard in Colorado Springs between UP milepost 74.4 and UP milepost 75.4, the Templeton Gap Spur at approximately UP milepost 72.79, and the Russina Spur at approximately UP milepost 70.7); and (vi) on the Joint Corridor, main track 1, BNSF milepost 84.49, at or near Crews, to BNSF milepost 86.54, south of Crews. UP would also grant BNSF a non-exclusive lease of UP's signal system and grade crossing warning devices on the Joint Corridor, main track 2, BNSF milepost 86.13, south of Crews, to BNSF milepost 93.9, at or near Nixon.

Additional information is contained in the Board's decision. Board decisions and notices are available on our Web site at www.stb.dot.gov.

Decided: April 20, 2015.
By the Board, Acting Chairman Miller and Vice Chairman Begeman.
Raina S. Contee,
Clearance Clerk.

[FR Doc. 2015-09484 Filed 4-22-15; 8:45 am]

BILLING CODE 4915-01-P